DEPARTMENT OF HOUSING AND URBAN DEVELOPMENT

Office of Federal Housing Enterprise Oversight

12 CFR Part 1700

RIN 2550-AA29

Organization and Functions

AGENCY: Office of Federal Housing Enterprise Oversight, HUD.

ACTION: Final rule.

SUMMARY: The Office of Federal Housing Enterprise Oversight (OFHEO) is revising its regulations that describe the agency's organization and functions. The revisions are being made to inform the public about changes in the organizational structure of the agency and the functional responsibilities of its offices. In particular, the revisions include a summary of two new offices.

In acting on these regulations, OFHEO finds that notice and public comment are not necessary. Section 553(b)(3)(A) of title 5, United States Code, provides that when regulations involve matters of agency organization, procedure or practice, the agency may publish regulations in final form. In addition, OFHEO finds, in accordance with 5 U.S.C. 553(d), that a delayed effective date is unnecessary. Accordingly, these regulations are effective upon publication.

DATES: The final rule is effective April 9, 2004.

FOR FURTHER INFORMATION CONTACT: Alfred Pollard, General Counsel, telephone (202) 414-3800 (not a toll-free number), Office of Federal Housing Enterprise Oversight, Fourth Floor, 1700 G Street, NW., Washington, DC 20552. The telephone number for the Telecommunications Device for the Deaf is (800) 877-8339.

SUPPLEMENTARY INFORMATION:

Discussion of the Final Regulation

This final rule informs the public about structural and functional changes within OFHEO that were recently implemented by the Director. Changes in the agency's structure consist of the establishment of the “Office of Compliance” and the “Office of Chief Accountant”.

The Office of Compliance works to assure that the Enterprises operate in compliance with applicable laws by conducting special reviews and examinations on focused issues that may arise at the enterprises or that are of concern to OFHEO. The Office also assists in providing information for enforcement actions and other activities as requested by the Director.

The Office of Chief Accountant provides advice to OFHEO on all accounting matters related to the Enterprises. The Office develops policies regarding accounting and financial reporting and monitors accounting standards that affect the Enterprises. The Office supports and coordinates accounting resources within the OFHEO and supports other offices in providing consistent accounting policy interpretation across OFHEO and works with external constituencies on accounting issues.

To more accurately reflect the functions of various offices, name changes have been made and are reflected in this organization regulation. The Office of Examination and Oversight is renamed the Office of Examination, reflecting the oversight role of the new Office of Compliance, and the Office of Risk Analysis and Model Development is renamed the Office of Capital Supervision, reflecting its changed emphasis from development of a stress test to the broad supervision and analysis of enterprise capital. Other offices remain the same in name and description of function.

Regulatory Impact

Executive Order 12866, Regulatory Planning and Review

This final rule is not classified as a significant rule under Executive Order 12866 because it will not result in (1) an annual effect on the economy of $100 million or more; (2) a major increase in costs or prices for consumers, individual industries, Federal, State, or local government agencies, or geographic regions; or (3) significant adverse effects on competition, employment, investment, productivity, innovation, or on the ability of United States-based enterprises to compete with foreign-based enterprises in domestic or foreign markets. Accordingly, no regulatory impact assessment is required and this final rule has not been submitted to the Office of Management and Budget for review.

Regulatory Flexibility Act

The Regulatory Flexibility Act (5 U.S.C. 601 et seq.) requires that a rule that has a significant economic impact on a substantial number of small entities, small businesses, or small organizations must include an initial regulatory flexibility analysis describing the regulation's impact on small entities. Such an analysis need not be undertaken if the agency has certified that the regulation will not have a significant economic impact on a substantial number of small entities. 5 U.S.C. 605(b). OFHEO has considered the impact of this final rule under the Regulatory Flexibility Act. The General Counsel certifies that this final rule will not have a significant economic impact on a substantial number of small business entities.

Paperwork Reduction Act

This final rule does not contain any information collection requirements that require the approval of the Office of Management and Budget under the Paperwork Reduction Act (44 U.S.C. 3501 et seq.).

Unfunded Mandates Reform Act of 1995

This final rule does not require the preparation of an assessment statement in accordance with the Unfunded Mandates Reform Act of 1995, 2 U.S.C. 1531. Assessment statements are not required for regulations that incorporate requirements specifically set forth in law. As explained in the preamble, this rule implements specific statutory requirements. In addition, this rule does not include a Federal mandate that may result in the expenditure by State, local, and tribal governments, in the aggregate, or by the private sector, of $100 million or more (adjusted annually for inflation) in any one year.

List of Subjects in 12 CFR Part 1700

Organization and functions (Government agencies).

For the reasons stated in the preamble, OFHEO is amending 12 CFR part 1700 as follows:

PART 1700—ORGANIZATION AND FUNCTIONS

1. The authority citation for part 1700 continues to read as follows:

Authority: 5 U.S.C. 552; 12 U.S.C. 4513, 4526.

2. Section 1700.2 is amended by revising paragraphs (b) and (c) to read as follows:

§ 1700.2 Organization of the Office of Federal Housing Enterprise Oversight.

* * * * *

(b) Deputy Director. The Deputy Director of OFHEO is appointed by the Director in accordance with the Act. In the event of the absence, sickness, death or resignation of the Director, the Deputy Director serves as acting Director until the Director's return or the confirmation of a successor. The Deputy Director performs such functions, powers and duties as the Director determines are necessary with respect to OFHEO's management and the development and implementation of OFHEO's programs and functions.

(c) Offices and functions—(1) Office of Examination. The Office of Examination plans and conducts examinations of the Enterprises, as required by the Act, prepares and issues reports of examination summarizing the financial condition and management practices of each Enterprise, and seeks preventative and corrective actions as appropriate. The Office complements its on-site examination activities with off-site financial safety and soundness monitoring.

(2) Office of Capital Supervision. The Office of Capital Supervision ensures the comprehensive evaluation and classification of the capital adequacy of the Enterprises, the assessment of risks that impact capital and the development of tools to measure such risks. The Office ensures the integrity of capital classifications by effectively producing results under the minimum and risk based capital models and systems and by implementing appropriate enhancements to those measures. The Office assesses new GSE activities under the capital regime and addresses changes in accounting standards. The Office supports its responsibilities as well as other OFHEO offices through research on alternative models and measurements of risk and capital adequacy.

(3) Office of Finance and Administration. The Office of Finance and Administration provides support services in all areas of financial and administrative management of OFHEO. The Office is responsible for developing, managing and implementing agency policies and procedures governing: (i) All human resources functions, including payroll; (ii) support for all facility and supply requirements, including continuity of operations planning and testing; (iii) OFHEO contracting and procurement programs; and, (iv) OFHEO financial management, budgeting and accounting functions, including travel, internal controls and financial reporting.

(4) Office of General Counsel. The Office of General Counsel advises the Director and OFHEO staff on all legal matters concerning the functions, activities, and operations of OFHEO and of the Enterprises under the Act. The Office is responsible for interpreting the Act and other applicable law, including financial institutions regulatory issues, securities and corporate law principles, and administrative and general legal matters. This Office also coordinates the preparation of legislation and agency regulations and works with other counsels in the government.

(5) Office of External Relations. The Office of External Relations is responsible for coordinating and communicating on behalf of OFHEO with the Congress, for monitoring relevant legislative developments, and for analyzing and assisting the Director in developing legislative proposals. The Office also is responsible for directing and coordinating communication with the news media and the public as well as participating in planning programs for OFHEO.

(6) Office of Policy Analysis and Research. The Office of Policy Analysis and Research conducts policy analysis and research to assess the short- and long-term impact on the regulatory and supervisory functions of OFHEO of trends and developments in Enterprise activities, housing finance and financial regulation. The Office also prepares data series, reports and research papers; works with other OFHEO offices to develop policy options; and, makes recommendations to the Director on a broad range of policy issues.

(7) Office of Information Technology. The Office of Information Technology plans, develops, secures, maintains, and assures the quality of the OFHEO information systems and records management functions. The Office is responsible for establishing and implementing policies, procedures and standards in the following areas: information systems development and procurement, office automation, records management, information systems security and other information technology-related services.

(8) Office of Strategic Planning and Management. The Office of Strategic Planning and Management assists the Director in developing and maintaining a long term strategic plan that is consistent with the mission of OFHEO and facilitates efforts to ensure that the activities and operations of the Agency are consistent with the strategic plan. The Office also provides leadership in planning, managing and assessing OFHEO's performance, including development of OFHEO's annual performance plans and reports.

(9) Office of Compliance. The Office of Compliance assists the Director in ensuring that the Enterprises operate in compliance with applicable laws, regulations and safety and soundness standards. The Office conducts special review and examinations on focused issues that may arise at the enterprises or that are of concern to OFHEO, often in coordination with other OFHEO offices, to assess compliance and obtain information. The Office also assists in providing information for enforcement actions and other activities as requested by the Director.

(10) Office of Chief Accountant. The Office of Chief Accountant advises the Director and OFHEO staff on all accounting matters related to the Enterprises. The Office develops policies regarding accounting and financial reporting and monitors accounting standards that affect the Enterprises, working with the Enterprises at a policy level on emerging issues. The Office supports and coordinates accounting resources within the agency to assure the best and most efficient use of those resources. The Office supports other offices in providing consistent accounting policy interpretation across OFHEO and works with external constituencies on accounting issues.

* * * * *

Dated: April 5, 2004.
Armando Falcon, Jr.,
Director, Office of Federal Housing Enterprise Oversight.

[FR Doc. 04-8122 Filed 4-8-04; 8:45 am]

BILLING CODE 4220-01-P